SMALL BUSINESS ADMINISTRATION

Senior Executive Service and Senior Level: Performance Review Board Members

AGENCY: U.S. Small Business Administration.

ACTION: Notice of members for the Performance Review Board.

Title 5 U.S.C. 4314(c) (4) requires each agency to publish notification of the appointment of individuals who may serve as members of that agency's Performance Review Board (PRB). The following individuals have been designated to serve on the PRB for the U.S. Small Business Administration.

Members

1. Victor Parker (Chair), Deputy Associate Administrator, Office of Field Operations

2. Antwaun Griffin, Chief of Staff, Office of the Administrator

3. Barbara Carson, Deputy Associate Administrator, Office of Disaster Assistance

4. Jason Bossie, Director of Program Performance, Analysis, and Evaluation, Office of Performance, Planning and the Chief Financial Officer

5. John Miller, Deputy Associate Administrator, Office of Capital Access

6. Kevin Wheeler, Associate Administrator, Office of Congressional and Legislative Affairs

7. Mark Madrid, Associate Administrator, Office of Entrepreneurial Development

Isabella Casillas Guzman,
Administrator.

[FR Doc. 2021-22298 Filed 10-13-21; 8:45 am]

BILLING CODE 8026-03-P